DEPARTMENT OF LABOR

Employment and Training Administration

[TA-W-55,261]

Sony Electronics, Inc. AOEM Service Center Farmington Hills, MI; Notice of Negative Determination on Reconsideration

On October 7, 2004, the Department issued an Affirmative Determination Regarding Application for Reconsideration for the workers and former workers of the subject firm. The Notice was published in the Federal Register on October 25, 2004 (69 FR 62301). The Department initially denied Trade Adjustment Assistance (TAA) and Alternate Trade Adjustment Assistance (ATAA) to workers of Sony Electronics, Inc., AOEM Service Center, Farmington Hills, Michigan, because the workers did not produce an article but performed repair services on consumer electronics.

In the request for reconsideration, the company official alleged that the subject facility is engaged in production because the workers repair and refurbish Sony products.

During the reconsideration investigation, the Department requested that the subject company provide additional information regarding the allegations as well as complete a questionnaire.

The investigation revealed that the subject worker group primarily repaired consumer electronic and neither produced refurbished consumer electronics nor assembled electronics goods during the relevant time period.

Conclusion

After reconsideration, I affirm the original notice of negative determination of eligibility to apply for worker adjustment assistance for workers and former workers of Sony Electronics, Inc., AOEM Service Center, Farmington Hills, Michigan.

Signed at Washington, DC, this 19th day of November 2004.
Linda G. Poole,
Certifying Officer, Division of Trade Adjustment Assistance.

[FR Doc. E4-3520 Filed 12-6-04; 8:45 am]

BILLING CODE 4510-30-P